DEPARTMENT OF TRANSPORTATION

Federal Transit Administration

[FTA Docket No. FTA 2019-0004]

Agency Information Collection Activity Under OMB Review

AGENCY: Federal Transit Administration, DOT.

ACTION: Notice of request for comments.

SUMMARY: In accordance with the Paperwork Reduction Act of 1995, this notice announces the intention of the Federal Transit Administration (FTA) to request the Office of Management and Budget (OMB) to approve a revision of a previously approved information collection: Rail Fixed Guideway Systems; State Safety Oversight.

DATES: Comments must be submitted before July 15, 2019.

ADDRESSES: To ensure that your comments are not entered more than once into the docket, submit comments identified by the docket number by only one of the following methods:

1. Website: www.regulations.gov. Follow the instructions for submitting comments on the U.S. Government electronic docket site. (Note: The U.S. Department of Transportation's (DOT's) electronic docket is no longer accepting electronic comments.) All electronic submissions must be made to the U.S. Government electronic docket site at www.regulations.gov. Commenters should follow the directions below for mailed and hand-delivered comments.

2. Fax: 202-366-7951.

3. Mail: U.S. Department of Transportation, 1200 New Jersey Avenue SE, Docket Operations, M-30, West Building, Ground Floor, Room W12-140, Washington, DC 20590-0001.

4. Hand Delivery: U.S. Department of Transportation, 1200 New Jersey Avenue SE, Docket Operations, M-30, West Building, Ground Floor, Room W12-140, Washington, DC 20590-0001 between 9:00 a.m. and 5:00 p.m., Monday through Friday, except federal holidays.

Instructions: You must include the agency name and docket number for this notice at the beginning of your comments. Submit two copies of your comments if you submit them by mail. For confirmation that FTA has received your comments, include a self-addressed stamped postcard. Note that all comments received, including any personal information, will be posted and will be available to internet users, without change, to www.regulations.gov. You may review DOT's complete Privacy Act Statement in the Federal Register published April 11, 2000, (65 FR 19477), or you may visit www.regulations.gov. Docket: For access to the docket to read background documents and comments received, go to www.regulations.gov at any time. Background documents and comments received may also be viewed at the U.S. Department of Transportation, 1200 New Jersey Avenue SE, Docket Operations, M-30, West Building, Ground Floor, Room W12-140, Washington, DC 20590-0001 between 9:00 a.m. and 5:00 p.m., Monday through Friday, except federal holidays.

FOR FURTHER INFORMATION CONTACT: Maria Wright, Office of Transit Safety & Oversight (202) 366-5922 or email: Maria1.Wright@dot.gov.

SUPPLEMENTARY INFORMATION: Interested parties are invited to send comments regarding any aspect of this information collection, including: (1) The necessity and utility of the information collection for the proper performance of the functions of the FTA; (2) the accuracy of the estimated burden; (3) ways to enhance the quality, utility, and clarity of the collected information; and (4) ways to minimize the collection burden without reducing the quality of the collected information. Comments submitted in response to this notice will be summarized and/or included in the request for OMB approval of this information collection.

Title: Rail Fixed Guideway Systems; State Safety Oversight

(OMB Number: 2132-0558)

Background: FTA administers a national program for public transportation safety under 49 U.S.C. Section 5329. One element of this program, at 49 U.S.C. 5329(e), requires States to oversee the safety of the rail transit agencies (RTAs) in their jurisdictions, including heavy and light rail systems, streetcars, inclined planes, cable cars, monorail/automated guideways and hybrid rail. Through this program, State Safety Oversight Agencies (SSOAs) ensure that RTAs identify and address safety risks, follow their safety rules and procedures, and take corrective action to address safety deficiencies. This program, which only applies to RTAs, enhances and replaces the State Safety Oversight (SSO) program previously authorized at 49 U.S.C. 5330.

The previously authorized program required SSOAs to perform oversight without Federal grant funding available. As a result, the approved information collection includes burden hours associated with activities administered by SSO agencies to collect information from RTAs and activities performed by RTAs to provide information to SSOAs. FTA decided to include these burden hours to address concerns raised by SSOAs and RTAs regarding unfunded Federal requirements.

With the expiration of the previously authorized program, and the new Federal grant program for States, authorized at 49 U.S.C. 5329(e)(6), FTA wishes to amend the information collection activities to focus only on the activities of SSOAs and RTAs to report information to FTA. Activities included in the previous information collection request that are not specifically related to FTA information collection are removed from this information collection request and are addressed in the Regulatory Impact Assessment developed for the final rule implementing 49 U.S.C. 5329(e). This proposed change aligns with the Paperwork Reduction Act (PRA) of 1995, United States Office of Personnel Management, Paperwork Reduction Act (PRA) Guide, Version 2.0, 2011.

The revised information collection request includes the annual report FTA requires from SSOAs, the burden of which has been reduced substantially through the development of a web-based system designed to replace the existing spreadsheet-based process and provides direct interface with the National Transit Database. It also includes the FTA's grant management reporting requirement and the triennial audit program, which requires information from both SSOAs and RTAs. Further, the information collection reflects requirements for SSOAs and RTAs to respond to FTA directives and advisories and SSOAs participation in monthly teleconference calls with FTA. Finally, the information collection request includes RTA event notifications to FTA.

With these changes, the total burden hours have decreased from 586,443 hours for the previous information collection request to 16,365 representing an overall decrease of 570,078 hours.

Respondents: States and Rail Transit Agencies.

Estimated Annual Number of Respondents: 96 respondents.

Estimated Total Annual Burden: 16,365 hours.

Frequency: Annually.

Nadine Pembleton,
Director Office of Management Planning.

[FR Doc. 2019-09864 Filed 5-13-19; 8:45 am]

BILLING CODE P